DEPARTMENT OF HEALTH AND HUMAN SERVICES

Office of the Secretary

Office of the Assistant Secretary for Planning and Evaluation; Statement of Organization, Functions and Delegations of Authority

Part A (Office of the Secretary), Statement of Organization, Functions, and Delegations of Authority of the Department of Health and Human Services (HHS) is being amended at Chapter AE, Office of the Assistant Secretary for Planning and Evaluation (ASPE), as last amended at 66 FR 2429 on January 11, 2001. This reorganization is to realign the functions of ASPE to reflect the current structure and areas of focus. The changes are as follows:

1. Delete Chapter AE, Office of the Assistant Secretary for Planning and Evaluation, in Its Entirety And Replace With the Following

Section AE.00 Mission

The Assistant Secretary for Planning and Evaluation is the principal advisor to the Secretary on policy development and provides coordination and support for the Department's strategic and policy planning, planning and development of legislation, program evaluation, data gathering, policy-related research, and the Department's regulatory program.

The Office of the Assistant Secretary for Planning and Evaluation advises the Secretary on policy issues associated with health, human services, disability, aging, long-term care, science policy, data resources, and other matters, such as economic policy. ASPE leads special initiatives on behalf of the Secretary; provides direction for, and coordinates, the Department's policy research, evaluation and data gathering and related analyses; and manages cross-Department activities, such as strategic and legislation planning. Integral to this role, ASPE develops policy analyses—both short and long-term—and related initiatives, conducts policy research and evaluation studies, and reviews and estimates the costs and benefits of policies (including regulations) and programs under consideration by the Department, Congress and others. ASPE works with other HHS Assistant Secretaries and agency heads on these matters.

Section AE.10 Organization

The Office of the Assistant Secretary for Planning and Evaluation consists of the following components:

A. Immediate Office (AE).

B. Office of Health Policy (AEH).

C. Office of Human Services Policy (AES).

D. Office of Disability, Aging and Long-Term Care Policy (AEW).

E. Office of Science and Data Policy (AEJ).

Section AE.20 Functions

A. The Immediate Office (AE)

The Immediate Office (IO) of the Assistant Secretary for Planning and Evaluation provides executive direction, leadership, guidance and support to ASPE components. The IO develops and guides implementation of the Department's strategic plan, the development of the Department's legislative and regulatory agenda in coordination with the Office of the Assistant Secretary for Legislation and the Office of the Executive Secretary, respectively, and the planning and coordination of policy-related research and evaluation across the Department. Research and evaluation planning and coordination for the Department is accomplished by the Department's Research Coordination Council, chaired by the ASPE. The Council is a planning and coordinating body of representatives from the Department's operating divisions and other offices conducting research, with support within ASPE by a staff group drawn from ASPE offices. The IO manages planning and implementation of ASPE budgets, evaluation and policy research agendas, workforce plans, executive correspondence, regulation review, and internal control procedures. The IO also provides information support services for ASPE and access by the public to information about ASPE and the Department's evaluation and policy research studies.

B. The Office of Health Policy (AEH)

The Office of Health Policy (HP) is responsible for policy development and coordination and for the conduct and coordination of research, evaluation, and data, on matters relating to health systems, services, and financing. Functions include policy and long-range planning; policy, economic, program and budget analysis; review of regulations and development of legislation. Health policy matters includes public health, health services and systems, health insurance, health care financing, health care quality, consumer health information in the public and private sectors, and the interaction among these matters and sectors.

HP is responsible for developing and coordinating a health policy research, information, and analytical program to gain information concerning health services, systems and financing, and for providing support tot he ASPE immediate Office for the Department's Research Coordination Council. The Office works closely with other ASPE and HHS offices on these matters, coordinates and shares information across Federal agencies, and collaborates with the health policy and service reserach community.

HP works closely with the Department's Centers for Medicare and Medicaid Services, the Agency for Healthcare Research and Quality, the Health Resources and Services Administration, the Substance Abuse and Mental Health Services Administration, the Centers for Disease Control and Prevention, and other HHS agencies. Within ASPE, the office coordinates closely with Office of Disability, Aging and Long-Term Care Policy on matters concerning persons with disabilities and the elderly, in particular those related to the Medicare and Medicaid programs.

1. The Division of Health Financing Policy (AEH1) is responsible for policies and functions of the office concerning health care financing and health care costs, principally Federal health care financing related to the Department's Medicare program, including matters concerning structural changes and modernization for the long-term, such as drug benefits, coverage and eligibility, new technology, and payments for services.

2. The Division of Public Health Systems (AEH2) is responsible for the functions of the office related to public health programs and policies. The division conducts analysis, studies and develops policies concerning such matters as: the public health system; the design and effectiveness of health promotion, disease prevention, and disease control activities undertaken by both the public and private sectors; the interaction between the medical services delivery system and population-based public health services; and the structure, function, capacity, practices, and interaction of public health entitles at all levels of government.

3. The Division of Health Care For Low Income Populations (AEH3) focuses on the financing an delivery of health care services for the low-income population without private health insurance. The division is responsible for the functions of the office with respect to the Medicaid program, the State Children's Health Insurance Program, and other policies and programs to help low income individuals and families have access to health care. This includes development of policies and mechanisms that integrate the financing and delivery of health care to this population. This division will collaborate with Health Care Financing on issues effecting populations who are dually eligible for Medicare and Medicaid and other cross-cutting areas.

4. The Division of Health Care Delivery Systems (AEH4) is responsible for functions related to health services, health organizations and health care delivery systems. The division's focus includes consumer information such as patient's bill of rights, incentives for private health insurance and health care, matters concerning the Health Insurance Portability and Accountability Act, health care organization, and the interaction between public and private health care and insurance.

C. The Office of Human Services Policy (AES)

The Office of Human Services Policy (HSP) is responsible for policy development and coordination, and for the conduct and coordination of research, evaluation, and data on matters relating to poverty, cash and non-cash support for low-income working and non-working families, welfare-to-work strategies, and services for families, children, and youth. Functions include policy and long-range planning; policy, program, economic and budget analysis; review of regulations; and development of legislation. In particular, the office is responsible for policies concerning families, child and youth development, support for low-income families and their children, welfare, and the financing and delivery of human services. The office works closely with agencies that provide services to low-income populations, particularly the Administration for Children and Families.

1. The Division of Economic Support for Families (AES1) is responsible for functions of the office related to low-income populations. The division's principal areas of focus include: cash and non-cash assistance for working and non-working families, welfare-to-work strategies, cash and non-cash assistance for working and non-working families, welfare-to-work strategies, child support enforcement, and special populations (e.g., immigrants). The division also monitors, analyzes, and maintain liaison with programs and policies outside the Department that effect HHS issues, such as earned income tax credits, food stamps, housing assistance, and education and workforce development programs.

2. The Division of Children and Youth Policy (AES2) is responsible for functions of the office affecting children and youth. The principal areas of focus include: healthy development of children and youth, family support, human services for children, youth, and their families, such as child welfare and child protection, at-risk youth, child care and early childhood education, and violence prevention.

3, The Division of Data and Technical Analysis (AES3) is responsible for the development, analysis, and coordination of research, evaluation, and data gathering activities relating to policies and programs concerning the low-income population. The division provides support for policy development through data analysis, modeling, cost and impact analyses, and the enhancement of national, state, and local data sources for analyzing and tracking issues. The division also is responsible for the annual update of the HHS poverty guidelines. The division also maintains cognizance of data collection activities of the Federal statistical system and coordinates with the Office of Science and Data Policy, as appropriate.

D. The Office of Disability, Aging and Long-Term Care Policy (AEW)

The Office of Disability, Aging and Long-Term Care Policy (DALTCP) is responsible for the development of financing and service organization and delivery policy on matters related to disability, aging, and long-term care. Functions includes policy and long-range planning; planning, policy and program analysis; review of regulations and development of legislation; and the conduct, coordination and dissemination of research, evaluation, and data. The office works closely with other ASPE offices, the Centers for Medicare and Medicaid Services, the Administration on Aging, and other HHS components. Activities related to the Older American Act are carried out in coordination with the Office of the Assistant Secretary for Aging.

1. The Division of Disability and Aging Policy (AEW1) is responsible for the functions of the office as they concern persons with disabilities and older Americans. The division is responsible for supporting the development and coordination of crosscutting policies and data collection within the Department and in other Federal agencies whose actions affect the health, economic and social well-being of persons with disabilities and elderly populations. The division is responsible for measuring and evaluating the impact of all programs authorized by the Older Americans Act. The division assesses the interaction among health, disability, and the economic well-being of persons of all ages with disabilities, including identifying the prevalence of disability and disabling conditions, socio-demographic characteristics, service use, income, employment, and program participation patterns. The division also is responsible for coordinating the development of data and policies that are responsive to the characteristics, circumstances and needs of disabled populations.

2. The Division of Long-Term Care Policy (AEW3) is responsible for the functions of the office as they concern policies and programs that address the long-term care and personal assistance needs of people of all ages with chronic disabilities. The division develops and coordinates a comprehensive research, information, and analytical program to gain basic information to achieve the Department's objectives in the areas of long-term care and disability service and financing. The division is the focal point for policy development and analysis related to the disability, aging, and long-term care services components of Medicare and Medicaid, including nursing facility services, community residential services, personal assistance services, home health and rehabilitation services, and the integration of acute, post-acute, and long-term care services.

E. The Office of Science and Data Policy (AEJ)

The Office of Science and Data Policy (SDP) is responsible for guiding and coordinating the development of science and data policy throughout the Department. SDP establishes and leads broadly representative, multi-office working groups to develop policy initiatives related to complex science, technology or data issues that cut across the mission of organizations within the Department.

SDP is the ASPE lead on issues that are heavily science-based, including public health issues that involve complex or rapidly evolving science and technology, such as genetics, xenotrasplantion, stem cell research, cloning, and bioterrorism. SDP guides and coordinates the incorporation of science-policy considerations within the Department's regulatory and legislative proposals, congressional testimony, press releases and other public documents describing major Department Initiatives. SDP provides critque and advice regarding the science policy content of such document and, in selected instances, initiates their development.

SDP is responsible for data development and coordination within the Department and serves as the focal point for Department-wide data policy. It provides leadership and staff support to the Department's Data Council—the principal internal forum and advisory body to the Secretary on data policy issues, including data strategy, data standards, informatics, and privacy issues. SDP provides direction and oversight to, and the Executive Director for, the National Committee on Vital and Health Statistics, the statutory public advisory body to the Secretary on health data, statistics, privacy, informatics and national health information policy. SDP also prices support to the ASPE and Office of the Secretary leadership on a variety of Department-wide data planning and informatic issues, as well as data issues in support of performance measurement. SDP also directs a program of policy research, evaluation and analysis in these areas and provides several cross-cutting data policy services across ASPE.

SDP also is responsible for creating and maintaining effective communications and liaison with scientific, technical and data communities and agencies outside the Department regarding science and data policy issues. This includes liaison with the Office of Science and Technology activities; and government/private sector collaborations related to sciences policy.

II. Delegations of Authority

All delegations and redelegations of authority made to officials and employees of affected organizational components will continue in them or their successors pending further redelegation, provided they are consistent with this reorganization.

Dated: September 20, 2002.
Ed Sontag,
Assistant Secretary for Administration and Management.

[FR Doc. 02-24747 Filed 9-27-02; 8:45 am]

BILLING CODE 4150-04-M